DEPARTMENT OF ENERGY

Agency Information Collection Extension

AGENCY: U.S. Department of Energy.

ACTION: Notice and Request for Comments.

SUMMARY: The Department of Energy (DOE), pursuant to the Paperwork Reduction Act of 1995, intends to extend for three years, an information collection request with the Office of Management and Budget (OMB). Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before July 6, 2012. If you anticipate difficulty in submitting comments within that period, contact the person listed below as soon as possible.

ADDRESSES: Written comments may be sent to: Eva Auman, GC-63, Department of Energy, 1000 Independence Ave. SW., Washington, DC 20585; Fax: 202-586-0971; or email at: eva.auman@hq.doe.gov.

FOR FURTHER INFORMATION CONTACT: Eva Auman, GC-63, Department of Energy, 1000 Independence Ave. SW., Washington, DC 20585; Fax: 202-586-0971; or email at: eva.auman@hq.doe.gov.

SUPPLEMENTARY INFORMATION: This information collection request contains: (1) OMB No. 1910-5143; (2) Information Collection Request Title: Labor Relations. This information collection was originally titled Legacy Management Labor Relations, but due to transfer of this function to the Office of General Counsel, the title has been shortened to Labor Relations; (3) Type of Review: Renewal; (4) Purpose: To obtain information from the Department of Energy Management and Operation, and Facilities Management Contractors for contract administration, management oversight and cost control; (5) Annual Estimated Number of Respondents: 35; (6) Annual Estimated Number of Total Responses: 35; (7) Annual Estimated Number of Burden Hours: 193; (8) Annual Estimated Reporting and Recordkeeping Cost Burden: $0.00 annually.

Statutory Authority: 42 U.S.C. 7254, 7256.

Issued in Washington, DC on April 30, 2012.
Jean S. Stucky,
Assistant General Counsel for Labor and Pension Law, Office of the General Counsel.

[FR Doc. 2012-10936 Filed 5-4-12; 8:45 am]

BILLING CODE 6450-01-P